DEPARTMENT OF AGRICULTURE

Food and Nutrition Service

Agency Information Collection Activities: Proposed Collection; Comment Request-WIC Nutrition Services and Administration (NSA) Cost Study

AGENCY: Food and Nutrition Service (FNS), USDA.

ACTION: Notice.

SUMMARY: In accordance with the Paperwork Reduction Act of 1995, this notice invites the general public and other public agencies to comment on this proposed information collection. This collection is a new collection to obtain data on how State and local WIC agencies calculate NSA costs; how recent Program changes have impacted NSA costs; and how administrative costs and policies compare to those of Supplemental Nutrition Assistance Program (SNAP) and Temporary Assistance for Needy Families (TANF).

DATES: Written comments must be received on or before September 24, 2013.

ADDRESSES: Comments are invited on (a) whether the proposed data collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including the use of appropriate automated, electronic, mechanical, or other technological collection techniques or other forms of information technology.

Written comments may be sent to: Dr. Melissa Abelev, Food and Nutrition Service, U.S. Department of Agriculture, 3101 Park Center Drive, Room 1014, Alexandria, VA 22302. Comments may also be submitted via fax to the attention of Dr. Melissa Abelev at 703-305-2209 or via email to Melissa.Abelev@fns.usda.gov. Comments will also be accepted through the Federal eRulemaking Portal. Go to http://www.regulations.gov, and follow the online instructions for submitting comments electronically.

All written comments will be open for public inspection at the office of the Food and Nutrition Service during regular business hours (8:30 a.m. to 5:00 p.m., Monday through Friday) at 3101 Park Center Drive, Room 1014, Alexandria, Virginia 22302.

All responses to this notice will be summarized and included in the request for Office of Management and Budget approval. All comments will be a matter of public record.

FOR FURTHER INFORMATION CONTACT: Requests for additional information or copies of this information collection should be directed to Dr. Melissa Abelev at 703-305-2209.

SUPPLEMENTARY INFORMATION:

Title: WIC Nutrition Services and Administration (NSA) Cost Study.

Form Number: N/A.

OMB Number: Not yet assigned.

Expiration Date: Not yet determined.

Type of Request: New collection.

Abstract: The Special Supplemental Nutrition Program for Women, Infants, and Children (WIC), (Pub. L. 109-85), is administered at the Federal level by the Food and Nutrition Service (FNS) of the U.S. Department of Agriculture. Through Federal grants to States, WIC provides low-income pregnant, breastfeeding, and postpartum women, infants, and children up to age five with nutritious supplemental foods. The program also provides nutrition education and referrals to health and social services.

NSA costs, the focus of this study, are the direct and indirect costs, which State and local agencies determine to be necessary to support WIC Program operations, exclusive of food costs. NSA costs include, but are not limited to, the costs of Program administration, start-up, monitoring, auditing, the development of and accountability for food delivery systems, nutrition education and breastfeeding promotion and support, outreach, certification, and developing and printing food instruments and cash-value vouchers.

The current federal WIC regulations are designed to encourage women to breastfeed and to provide appropriate nutritional support for WIC participants. As part of these provisions, States must spend a minimum amount of grant funds, as determined by a national formula, on nutrition education and breastfeeding support services.

The last study on NSA costs took place in 2000. Since then, there have been many changes in the WIC Program—from new food packages, to the Value Enhanced Nutrition Assessment (VENA), to Management Information System (MIS) upgrades, and the start of the mandated conversion to Electronic Benefit Transfer (EBT) cards—all of which have impacted NSA costs. A census of state and local agencies will be conducted to provide insight into how NSA grant funds are used and have been impacted by recent changes. It will also provide a point of comparison with the administrative costs of other federal assistance programs by collecting data from state and local officials overseeing SNAP and TANF.

Data will be collected in four ways: (1) The collection of extant WIC State agency documents as summarized annually on FNS Forms 798 and 798-A (currently approved under 0584-0045); (2) a web survey of all WIC State and local agencies (preceded by a letter of introduction and recruitment); (3) key informant interviews with WIC administrators in 14 WIC State agencies plus interviews with 32 local agency directors within these State agencies; and (4) key informant interviews with state SNAP and TANF officials in nine jurisdictions plus interviews with two local SNAP/TANF agency officials (preceded by a letter of introduction and recruitment).

Affected Public: State, Local, and Tribal Government: Respondent groups identified include: All State WIC Directors; all local WIC agency Directors; selected State WIC Directors; selected local WIC agency Directors; selected state and local SNAP and TANF agencies.

Estimated Number of Respondents: The total estimated number of respondents is 4,156. This includes: 90 State WIC directors (extant data request); 90 State WIC directors (letter); 90 State WIC Directors (web survey); 14 State WIC directors (interview); 1,900 local WIC agency directors (letter); 1,900 local WIC agency directors (web survey); 32 local WIC agency directors (interview); 9 state SNAP agency officials (letter); 9 state SNAP agency officials (interview); 9 state TANF agency officials (letter); 9 state TANF agency officials (interview); one local SNAP agency official (letter); one local SNAP agency official (interview); one local TANF agency official (letter); one local SNAP agency official (interview).

Estimated Number of Responses per Respondent: All response tasks listed above require just one response each.

Estimated Total Annual Responses: 4,156.

Estimated Time per Response: The estimated time for each response is shown in the burden table below. Dividing the total hours of 2,772.00 by the 4,156 respondents (or responses) yields an average estimated time of .667 hours per response.

Estimated Total Annual Burden on Respondents: 2,772.00 hours. See the table following for estimated total annual burden for each type of respondent.

Respondent | Estimated number respondent | Responses annually per respondent | Total annual responses (column b × c) | Estimated average number of hours per response | Estimated total hours (column d × e)
Reporting Burden
State WIC Director Form 798/798-A Extant Data Request | 90 | 1 | 90 | 1.00 | 90.00
State WIC Director Letter of Introduction and Recruitment | 90 | 1 | 90 | 0.33 | 30.00
State WIC Director Web Survey | 90 | 1 | 90 | 1.00 | 90.00
State WIC Director Interview | 14 | 1 | 14 | 4.00 | 56.00
State SNAP Official Letter of Introduction and Recruitment | 9 | 1 | 9 | 0.25 | 2.25
State SNAP Official Interview | 9 | 1 | 9 | 1.50 | 13.50
State TANF Official Letter of Introduction and Recruitment | 9 | 1 | 9 | 0.25 | 2.25
State TANF Official Interview | 9 | 1 | 9 | 1.50 | 13.50
Local WIC Agency Director Letter of Introduction and Recruitment | 1,900 | 1 | 1,900 | 0.25 | 475.00
Local WIC Agency Director Web Survey | 1,900 | 1 | 1,900 | 1.00 | 1,900
Local WIC Agency Director Interview | 32 | 1 | 32 | 3.00 | 96.00
Local SNAP Official Letter of Introduction and Recruitment | 1 | 1 | 1 | 0.25 | 0.25
Local SNAP Official Interview | 1 | 1 | 1 | 1.50 | 1.50
Local TANF Official Letter of Introduction and Recruitment | 1 | 1 | 1 | 0.25 | 0.25
Local TANF Official Interview | 1 | 1 | 1 | 1.50 | 1.50
Total Reporting Burden | 4,156 | 1 | 4,156 | .666987 | 2,772.00

Dated: July 17, 2013.
Audrey Rowe,
Administrator, Food and Nutrition Service.

[FR Doc. 2013-17992 Filed 7-25-13; 8:45 am]

BILLING CODE 3410-30-P